DEPARTMENT OF AGRICULTURE

Office of the Secretary

Meeting Notice of the National Agricultural Research, Extension, Education, and Economics Advisory Board

AGENCY: Research, Education, and Economics, USDA.

ACTION: Notice of meeting.

SUMMARY: In accordance with the Federal Advisory Committee Act, 5 U.S.C. App 2, Section 1408 of the National Agricultural Research, Extension, and Teaching Policy Act of 1977 (7 U.S.C. 3123), and the Agricultural Act of 2014, the United States Department of Agriculture (USDA) announces an open virtual meeting of the National Agricultural Research, Extension, Education, and Economics Advisory Board.

DATES: The National Agricultural Research, Extension, Education, and Economics Advisory Board will meet via teleconference on April 14, 2015, at 2:00 p.m. Eastern Daylight Time.

ADDRESSES: The meeting will take place virtually at the AT&T Meeting Room below. Please follow the pre-registration instructions to ensure your participation in the meeting.

Call-In instructions for Tuesday, April 14, 2015 at 2:00 p.m. Eastern Daylight Time:

Web Preregistration: Participants may preregister for this teleconference at http://emsp.intellor.com?p=419202&do=register&t=8. Once the participant registers, a confirmation page will display dial-in numbers and a unique PIN, and the participant will also receive an email confirmation of this information.

FOR FURTHER INFORMATION CONTACT: Michele Esch, Designated Federal Officer and Executive Director, National Agricultural Research, Extension, Education, and Economics Advisory Board, U.S. Department of Agriculture, 1400 Independence Avenue SW., STOP 0321, Washington, DC 20250-0321; telephone: (202) 720-3684; fax: (202) 720-6199; or email: nareee@ars.usda.gov.

SUPPLEMENTARY INFORMATION: On Tuesday, April 14, 2015, at 2:00 p.m. Eastern Daylight Time a virtual meeting of the National Agricultural Research, Extension, Education, and Economics Advisory Board will be conducted to hear the summary of findings and recommendations on the review of the animal handling, care, and welfare at the U.S. Meat Animal Research Center, hear stakeholder input received from this meeting as well as other written comments, and provide input on the report. The report is available at www.ree.usda.gov. This meeting is open to the public and any interested individuals wishing to attend. Opportunity for verbal public comment will be offered on the day of the meeting. Written comments by attendees or other interested stakeholders will be welcomed for the public record before and up to the day of the meeting (by close of business Tuesday, April 14, 2015). All written statements must be sent to Michele Esch, Designated Federal Officer and Executive Director, National Agricultural Research, Extension, Education, and Economics Advisory Board, U.S. Department of Agriculture, 1400 Independence Avenue SW., STOP 0321, Washington, DC 20250-0321; or email: nareee@ars.usda.gov. All statements will become a part of the official record of the National Agricultural Research, Extension, Education, and Economics Advisory Board and will be kept on file for public review in the Research, Education, and Economics Advisory Board Office.

Done at Washington, DC, this 20th day of March 2015.
Ann Bartuska,
Deputy Under Secretary, Research, Education, and Economics.

[FR Doc. 2015-07145 Filed 3-27-15; 8:45 am]

BILLING CODE 3410-03-P